LIBRARY OF CONGRESS

U.S. Copyright Office

37 CFR Part 201

[Docket No. 2024-7]

Electronic Payment of Royalties Using Pay.gov

AGENCY: U.S. Copyright Office, Library of Congress.

ACTION: Notice of proposed rulemaking.

SUMMARY: The Copyright Office is proposing to amend its regulations regarding the submission of royalty fees to the Copyright Office to require that all such fees be paid using Pay.gov.

DATES: Written comments are due by January 13, 2025.

ADDRESSES: For reasons of government efficiency, the Copyright Office is using the regulations.gov system for the submission and posting of public comments in this proceeding. All comments are therefore to be submitted electronically through regulations.gov. Specific instructions for submitting comments are available on the Copyright Office website at http://copyright.gov/rulemaking/royaltypayments. If electronic submission of comments is not feasible due to lack of access to a computer and/or the internet, please contact the Office using the contact information below for special instructions.

FOR FURTHER INFORMATION CONTACT: Rhea Efthimiadis, Assistant to the General Counsel, by email at meft@copyright.gov, or by telephone at 202-707-8350.

SUPPLEMENTARY INFORMATION: Section 111 of the Copyright Act (“Act”), title 17 of the United States Code, provides cable operators with a statutory license to retransmit a performance or display of a work embodied in a “primary transmission” made by a television station licensed by the Federal Communications Commission (“FCC”). Cable operators that retransmit broadcast signals in accordance with this provision are required to pay royalty fees to the Copyright Office (“Office”), among other requirements. Similarly, section 119 of the Act provides satellite carriers with a statutory license to retransmit certain primary transmissions if they satisfy certain criteria, for which they also must pay royalty fees to the Office. In addition, sections 1003 and 1004 of the Act require manufacturers and importers of digital audio recording devices and digital audio recording media (“DART”) to pay royalty fees to the Office.

In 2006, the Office issued a rule requiring those royalty payments to be made using electronic funds transfer (“EFT”).¹ As noted when the rule was proposed, the use of EFT is beneficial to both the remitter and the Office for four reasons.² First, with Fedwire transactions, remitters gain more time to transfer funds without fear of incurring interest assessments for late payments. Second, electronic payments avoid the problems associated with lost checks or delays in processing mail. Third, copyright owners, the ultimate recipients of the funds, accrue more interest because the monies go directly to the Department of the Treasury instead of being diverted to the Copyright Office for processing first. And finally, the Office benefits from the use of the electronic payment option because it lessens its workload by reducing paperwork and related administrative costs.

¹ Electronic Payment of Royalties, 71 FR 45739 (Aug. 10, 2006) (final rule permitting remitters to choose between an Automated Clearing House (“ACH”) credit and a Fedwire transfer). See 37 CFR 201.11(f)(1), 201.17(k)(1), 201.28(h)(1). In 2018, the Office issued a rule allowing payments to be made with multiple EFT transfers, not just a single payment. Streamlining Electronic Payment of DART Royalty Accounts and Electronic Royalty Payment Processes, 83 FR 51840 (Oct. 15, 2018).

² See Electronic Payment of Royalties, 71 FR 24829, 24829-30 (Apr. 27, 2006) (proposed rule).

Now, as part of broader efforts to make its services digitized, interconnected, searchable, and easier to navigate,³ the Office seeks to further simplify the royalty payment process by requiring remitters to use the U.S. Treasury Department's Pay.gov system to submit EFT payments for all royalty and filing fees. In addition to the advantages noted above, mandating the use of Pay.gov benefits both remitters and the Office by (1) ensuring that the Office can receive, reconcile, and post payments in the same transaction; (2) providing remitters with the convenience of using a variety of methods, including credit or debit cards, as a form of payment; and (3) eliminating the need for remitters to separately complete the remittance advice form. Instead, they submit the remittance advice form through Pay.gov at the same time they make their payments. Thus, the proposed rule will allow more efficient collection and allocation of royalty fees. It will also harmonize payment regulations across services throughout the Office, which already mandate the use of Pay.gov for non-royalty electronic payments.⁴

³ As part of this effort, the Office is reviewing its regulations and updating them where necessary to reflect current and anticipated practices. Among the regulations recently revised are those requiring the use of Pay.gov for non-royalty payments and those pertaining to statements of account for cable operators, satellilte carriers, and DART remitters. See 37 CFR 201.6, 201.11, 201.17, 201.28; Statutory Cable, Satellite, and DART License Reporting Practices (published elsewhere in this issue of the Federal Register).

⁴ See 37 CFR 201.6(a)(1); Remitter Payment Options and Deposit Account Requirements, 87 FR 59306 (Sept. 30, 2022) (final rule).

The proposed rule does not alter the regulatory provisions allowing the Office to waive the requirement of payment by EFT. However, as the Office stated when it first required payment by EFT, waivers are “for those situations where there may be circumstances which make it virtually impossible for a remitter to use the electronic payment option or imposes a financial or other hardship.” ⁵

⁵ 71 FR at 45739.

To assist remitters unfamiliar with Pay.gov, the Office has created tutorials to guide remitters, which are posted on the Licensing Section's website.⁶

⁶ United States Copyright Office, Circular 74, June 2022: How to Make Statutory License Royalty EFT Payments Using Pay.gov, https://copyright.gov/circs/circ74.pdf; United States Copyright Office, Make Statutory License Royalty Payments Using Pay.gov, https://copyright.gov/licensing/eftpayment.

List of Subjects in 37 CFR Part 201

Copyright, General provisions.

Proposed Regulations

For the reasons set forth in the preamble, the Copyright Office proposes amending 37 CFR part 201 as follows:

PART 201—GENERAL PROVISIONS

1. The authority citation for part 201 continues to read as follows:

Authority: 17 U.S.C. 702.

2. Amend § 201.11 by revising paragraphs (f)(1) and (h)(3)(iv) to read as follows:

§ 201.11 Satellite carrier statements of account covering statutory licenses for secondary transmissions.

* * * * *

(f) * * *

(1) All royalty fees shall be paid by electronic funds transfer using Pay.gov, and payment must be received in the designated bank by the filing deadline for the relevant accounting period. Satellite carriers must provide specific information as part of the EFT and as part of the remittance advice, as listed in the instructions for Pay.gov, the Statement of Account form, and the Office's website.

* * * * *

(h) * * *

(3) * * *

(iv)(A) All requests filed under this paragraph (h) must be accompanied by a filing fee in the amount prescribed in § 201.3(e) of this part for each Statement of Account involved. Payment of this fee must be by EFT using Pay.gov. No request will be processed until the appropriate filing fees are received.

(B) All requests that a supplemental royalty fee payment be received for deposit under this paragraph (h) must be accompanied by a remittance in the full amount of such fee. Payment of the supplemental royalty fee must be by EFT using Pay.gov. No such request will be processed until an acceptable remittance in the full amount of the supplemental royalty fee has been received.

* * * * *

3. Amend § 201.17 by revising paragraphs (k)(1) and (l)(4)(iv)(A) and (B) to read as follows:

§ 201.17 Statements of Account covering compulsory licenses for secondary transmissions by cable systems.

* * * * *

(k) * * *

(1) All royalty fees must be paid by electronic funds transfer (EFT) using Pay.gov, and must be received in the designated bank by the filing deadline for the relevant accounting period. Cable systems must provide specific information as part of the EFT and as part of the remittance advice, as listed in the instructions for Pay.gov, the Statement of Account form and on the Office's website.

* * * * *

(l) * * *

(4) * * *

(iv)(A) All requests filed under this paragraph (l) must be accompanied by a filing fee in the amount prescribed in § 201.3(e) of this part for each Statement of Account involved. Payment of this fee must be made by an electronic payment using Pay.gov. No request will be processed until the appropriate filing fees are received; and

(B) All requests that a supplemental royalty fee payment be received for deposit under this paragraph (l) must be accompanied by a remittance in the full amount of such fee. Payment of the supplemental royalty fee must be by an electronic payment using Pay.gov. No such request will be processed until an acceptable remittance in the full amount of the supplemental royalty fee has been received.

* * * * *

4. Amend § 201.28 by revising paragraphs (h)(1) and (j)(3)(v) to read as follows:

§ 201.28 Statements of Account for digital audio recording devices or media.

* * * * *

(h) * * *

(1) All royalty fees must be paid by electronic funds transfer (EFT) using Pay.gov, and must be received in the designated bank by the filing deadline for the relevant accounting period. Remitters must provide specific information as part of the EFT and as part of the remittance advice, as listed in the instructions for Pay.gov, the Statement of Account form, and the Office's website.

* * * * *

(j) * * *

(3) * * *

(v)(A) The request must be accompanied by a filing fee in the amount prescribed in § 201.3(e) for each Statement of Account involved. Payment of this fee must be by EFT using Pay.gov. No request will be processed until the appropriate filing fees are received.

(B) Requests that a supplemental royalty fee payment be deposited must be accompanied by a remittance in the full amount of such fee. Payment of the supplemental royalty fee must be by electronic payment using Pay.gov. No such request will be processed until an acceptable remittance in the full amount of the supplemental royalty fee has been received.

* * * * *

Dated: December 5, 2024.
Suzy Wilson,
General Counsel and Associate Register of Copyrights.

[FR Doc. 2024-29119 Filed 12-11-24; 8:45 am]

BILLING CODE 1410-30-P